ENVIRONMENTAL PROTECTION AGENCY

[EPA-HQ-OAR-2002-0091; FRL 10639-01-OAR]

Proposed Information Collection Request; Comment Request; Ambient Air Quality Surveillance 40 CFR 58 (Renewal)

AGENCY: Environmental Protection Agency (EPA).

ACTION: Notice.

SUMMARY: The Environmental Protection Agency is planning to submit an information collection request (ICR), “Ambient Air Quality Surveillance (Renewal)” (EPA ICR No. 0940.30, OMB Control No. 2060-0084) to the Office of Management and Budget (OMB) for review and approval in accordance with the Paperwork Reduction Act. Before doing so, EPA is soliciting public comments on specific aspects of the proposed information collection as described below. This is a proposed extension of the ICR, which is currently approved through July 31, 2023. An Agency may not conduct or sponsor and a person is not required to respond to a collection of information unless it displays a currently valid OMB control number.

DATES: Comments must be submitted on or before April 18, 2023.

ADDRESSES: Submit your comments to the EPA, referencing Docket ID No. EPA-HQ-OAR-2002-0091, online using https://www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided unless the comment includes profanity, threats, information claimed to be Confidential Business Information (CBI) or other information whose disclosure is restricted by statute.

FOR FURTHER INFORMATION CONTACT: Nealson Watkins, Air Quality Assessment Division, Office of Air Quality Planning and Standards, C304-06, Environmental Protection Agency, Research Triangle Park, NC 27711; telephone number: 919-541-5522; fax number: 919-541-1903: email address: watkins.nealson@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: This ICR includes ambient air monitoring data and other supporting measurements reporting and recordkeeping activities associated with the 40 CFR 58, Ambient Air Quality Surveillance rule. These data and information are collected by various state and local air quality management agencies and reported to the EPA's Office of Air Quality Planning and Standards within the Office of Air and Radiation.

The data collected through this information collection consist of ambient air concentration measurements for the seven air pollutants with national ambient air quality standards (i.e., ozone, sulfur dioxide, nitrogen dioxide, lead, carbon monoxide, PM2.5 and PM10), ozone precursors, meteorological variables at a select number of sites and other supporting measurements. Accompanying the pollutant concentration data are quality assurance/quality control data and air monitoring network design information.

The EPA and others (e.g., state and local air quality management agencies, tribal entities, environmental groups, academic institutions, industrial groups) use the ambient air quality data for many purposes. Some of the more prominent uses include informing the public and other interested parties of an area's (e.g., county, city, neighborhood) air quality, judging an area's air quality in comparison with the established health or welfare standards (including both national and local standards), evaluating an air quality management agency's progress in achieving or maintaining air pollutant levels below the national and local standards, developing and revising State Implementation Plans (SIPs) in accordance with 40 CFR 51, evaluating air pollutant control strategies, developing or revising national control policies, providing data for air quality model development and validation, supporting enforcement actions, documenting episodes and initiating episode controls, air quality trends assessment, and air pollution research.

The state and local agencies and tribal entities with responsibility for reporting ambient air quality data and information as requested in this ICR submit these data electronically to the EPA's Air Quality System (AQS) database. Quality assurance/quality control records and monitoring network documentation are also maintained by each state and local agency, in AQS electronic format where possible.

Although the state and local air pollution control agencies and tribal entities are responsible for the operation of the air monitoring networks, the EPA funds a portion of the total costs through federal grants. These grants generally require an appropriate level of contribution, or “match,” from the state/local agencies or tribal entities. The costs shown in this renewal are the total costs incurred for the monitoring program regardless of the source of the funding. This practice of using the total cost is consistent with prior ICR submittals and renewals.

This ICR reflects revisions of the previous ICR update of 2019, and covers the period of 2023-2025. The number of monitoring stations, sampling parameters, and frequency of data collection and submittal is expected to remain relatively stable for 2023-2025, with minor increases and decreases expected for several ambient air monitoring networks as air monitoring agencies review and adjust their monitoring networks. However, the EPA is reviewing the burden estimates in this ICR renewal for potential updates and seeks comments on the burden associated with asset management recordkeeping and reporting, burden associated with Chemical Speciation Network (CSN) reporting, and whether there are other suggested updates to the burden estimates for this ICR renewal.

As noted above, the EPA is considering the burden associated with implementing a reporting system and reporting requirements for asset management in this ICR renewal and has solicited feedback from reporting agencies on asset management reporting. Additionally, the EPA is considering the burden associated with Chemical Speciation Network (CSN) reporting, which is not a new requirement but was omitted from previous ICR renewals. As such, the EPA seeks comments, on a voluntary basis, regarding the following topics:

• The EPA seeks comments on whether reporting agencies are currently using an asset management system and would use electronic data transfer for asset management reporting or whether agencies would likely use direct data entry in an online reporting system.

• The EPA seeks comments on the burden currently incurred by reporting agencies associated with CSN recordkeeping and reporting.

• The EPA seeks comments on whether additional updates or edits are needed to improve the accuracy of the burden estimates in the current ICR (EPA ICR No. 0940.29, OMB Control No. 2060-0084).

Form Numbers: None.

Respondents/affected entities: State, Local, and Tribal Air Pollution Control Agencies.

Respondent's obligation to respond: Mandatory (40 CFR part 58).

Estimated number of respondents: 168 (total).

Frequency of response: Quarterly.

Total estimated burden: 1,771,662 hours (per year). Burden is defined at 5 CFR 1320.03(b).

Total estimated cost: $215,352,864 (per year), includes $81,263,356 annualized capital or operation & maintenance costs.

Changes in Estimates: There is an anticipated increase in burden from the most recently approved ICR as currently identified in the OMB Inventory of Approved Burdens. This is due to several considerations. First, the EPA expects to make a correction to include burden for CSN reporting. Additionally, the EPA plans to incorporate burden estimates for new asset management recordkeeping and reporting. The number of respondents is not expected to change significantly over the three-year period of this ICR. Finally, the EPA plans to update the burden estimates for the Photochemical Assessment Monitoring Stations (PAMS). For this ICR renewal, the EPA will use experience from the last three years to provide burden estimates that adequately reflect the actual burden. The EPA will consider any comments received and will conduct consultation with reporting agencies. There is an anticipated increase in costs due to the correction to include CSN reporting, the additional asset management recordkeeping and reporting, and the use of updated labor rates.

Richard A. Wayland,
Director, Air Quality Assessment Division.

[FR Doc. 2023-03351 Filed 2-16-23; 8:45 am]

BILLING CODE 6560-50-P